DEPARTMENT OF HEALTH AND HUMAN SERVICES

Centers for Disease Control and Prevention

[30-Day-21-0234]

Agency Forms Undergoing Paperwork Reduction Act Review

In accordance with the Paperwork Reduction Act of 1995, the Centers for Disease Control and Prevention (CDC) has submitted the information collection request titled The National Ambulatory Medical Care Survey (NAMCS) to the Office of Management and Budget (OMB) for review and approval. CDC previously published a “Proposed Data Collection Submitted for Public Comment and Recommendations” notice on January 28, 2021 to obtain comments from the public and affected agencies. CDC received no comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7118. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Ambulatory Medical Care Survey (NAMCS) (OMB Control No. 0920-0234, Exp. 05/31/2022)—Revision—National Center for Health Statistics (NCHS), Centers for Disease Control and Prevention (CDC).

Background and Brief Description

The National Ambulatory Medical Care Survey (NAMCS) was conducted intermittently from 1973 through 1985, and annually since 1989. The survey is conducted under authority of Section 306 of the Public Health Service Act (42 U.S.C. 242k). NAMCS is part of the ambulatory care component of the National Health Care Surveys (NHCS), a family of provider-based surveys that capture health care utilization from a variety of settings, including hospital inpatient and long-term care facilities. NCHS surveys of health care providers include NAMCS, the National Hospital Ambulatory Medical Care Survey (NHAMCS) (OMB Control No. 0920-0278, Exp. 09/30/2023), the National Hospital Care Survey (OMB Control No. 0920-0212, Exp. 03/31/2022), and National Post-acute and Long-term Care Study (OMB Control No. 0920-0943, Exp. 09/30/2023).

An overarching purpose of NAMCS is to meet the needs and demands for statistical information about the provision of ambulatory medical care services in the United States; this fulfills one of NCHS missions, to monitor the nation's health. In addition, NAMCS provides ambulatory medical care data to study: (1) The performance of the U.S. health care system, (2) care for the rapidly aging population, (3) changes in services such as health insurance coverage change, (4) the introduction of new medical technologies, and (5) the use of electronic health records (EHRs). Ongoing societal changes have led to considerable diversification in the organization, financing, and technological delivery of ambulatory medical care. This diversification is evidenced by the proliferation of insurance and benefit alternatives for individuals, the development of new forms of physician group practices and practice arrangements (such as office-based practices owned by hospitals), and growth in the number of alternative sites of care.

Ambulatory services are rendered in a wide variety of settings, including physician offices and hospital outpatient and emergency departments. Since more than 65% of ambulatory medical care visits occur in physician offices, NAMCS provides data on the majority of ambulatory medical care services. In addition to health care provided in physician offices and outpatient and emergency departments, health centers (HCs, formerly referred to as community health centers) play an important role in the health care community by providing care to medically underserved populations. HCs serve approximately 29 million individuals throughout the United States.

This revision seeks approval to adjust the HC sample size. In 2021, the sample size will be reduced to 50 HCs, and in 2022 allocated funds will cover a sample size of 110 HCs. In 2023 the sample size will increase to 115 HCs. Additionally, in the 2021 survey year we will not include the supplemental sample of physicians from which visit data are collected through submission of EHRs, with the approved 2019 sample size. These physicians will be included in subsequent survey years when deemed necessary. The annualized 2021-2023 NAMCS sample size is projected to be 5,000 office-based physicians and 92 HCs. Questions on the traditional office-base physician survey will be modified for clarification and to keep current with medical practice and terminology. We are also seeking to include the potential for experiments involving physician incentives for some office-based physicians. Beginning in the 2021 survey year, data collection for HCs will transition from manual abstraction to be transmitted through EHRs. A set-up fee will be allotted to sampled HCs to offset the cost of this new data collection method. With this transition, a new HC facility interview will be implemented. The reinterview survey will also be discontinued for HC respondents. Personally identifiable information (PII) will be collected from both the HCs, and physicians who transmit EHR visit data. For both the traditional office-based physicians and HCs, we will continue COVID-19 questions in 2021 and for subsequent data years where information is pertinent. We will also begin to conduct methodological work to improve upon the survey.

CDC requests approval for an estimated 6,819 annual burden hours. There is no cost to respondents other than their time to participate.

Estimated Annualized Burden Hours
Type of respondents | Form name | Number of respondents | Number of responses per respondent | Average burden per response (in hrs.)
Office-based Physicians or Staff (Abstraction) | Physician Induction Interview (2020) | 500 | 1 | 30/60
HC Executive/Medical Directors | HC Facility Induction Interview (2020) | 17 | 1 | 30/60
HC Providers | Provider Induction Interview (2020) | 52 | 1 | 30/60
HC Provider Staff | Pulling, re-filing medical record forms (FR abstracts) (2020) | 52 | 30 | 1/60
Office-based Physicians (Abstraction) and HC Providers | Reinterview Study (2020) | 33 | 1 | 15/60
Office-based Physicians or Staff (Abstraction) | Physician Induction Interview (2021-2023) | 3,000 | 1 | 30/60
| Pulling, re-filing medical record forms (FR abstracts) (2021-2023) | 2,000 | 30 | 1/60
Office-based Physician Staff (EHR Submission) | PFI (2021-2023) | 2,000 | 1 | 45/60
| Pulling, re-filing medical record forms (EHR Onboarding) (2021-2023) | 2,000 | 1 | 60/60
HC Staff | HC Facility Interview (2021-2023) | 92 | 1 | 45/60
| Prepare and transmit EHR for Visit Data (quarterly) (2021-2023) | 92 | 4 | 60/60
Office-based Physicians (Abstraction) | Reinterview Study (2021-2023) | 250 | 1 | 15/60

Jeffrey M. Zirger,
Lead, Information Collection Review Office, Office of Scientific Integrity, Office of Science, Centers for Disease Control and Prevention.

[FR Doc. 2021-11318 Filed 5-27-21; 8:45 am]

BILLING CODE 4163-18-P